ENVIRONMENTAL PROTECTION AGENCY

40 CFR Part 52

[EPA-R09-OAR-2023-0155; FRL-10771-01-R9]

Air Plan Revisions; California; Technical Amendments

AGENCY: Environmental Protection Agency (EPA).

ACTION: Final rule; technical amendments.

SUMMARY: The Environmental Protection Agency (EPA) is making technical amendments to the Code of Federal Regulations (CFR) to properly codify negative declarations submitted by the State of California on behalf of local air agencies as revisions to the California State Implementation Plan (SIP). The regulatory text and materials affected by these format changes have all been previously submitted by the State of California and approved by the EPA.

DATES: These technical amendments are effective April 21, 2023.

FOR FURTHER INFORMATION CONTACT: Elijah Gordon, EPA Region IX, 75 Hawthorne St., San Francisco, CA 94105. By phone: (415) 972-3158 or by email at gordon.elijah@epa.gov. Mae Wang, EPA Region IX, 75 Hawthorne St., San Francisco, CA 94105. By phone: (415) 947-4137 or by email at wang.mae@epa.gov.

SUPPLEMENTARY INFORMATION: In this rule, the EPA is making administrative changes in the “Negative declarations” section in 40 CFR part 52, subpart F. These technical amendments will reformat the table listings of negative declarations from California districts as codified in 40 CFR 52.222 and include minor changes to regulatory text for proper table identification. The purpose of these changes is to align the structure and identification of tables in 40 CFR 52.222 to be consistent with current CFR guidelines for orderly codification and to provide clarity in the regulatory text. The changes simply revise the codification of provisions that are already in effect as a matter of law in federal and approved state programs. This action makes no change to the substance of 40 CFR 52.222.

The EPA has determined that this action falls under the “good cause” exemption in section 553(b)(3)(B) of the Administrative Procedure Act (APA) which, upon finding “good cause,” authorizes agencies to dispense with public participation where public notice and comment procedures are impracticable, unnecessary, or contrary to public interest. Public notice and comment for this action is unnecessary because the underlying rules were already subject to a 30-day comment period, and this action is merely making administrative changes and updating the regulatory text accordingly. Further, this action is consistent with the purpose and rationale of the final rules. Because this action does not change the EPA's analyses or overall actions, no purpose would be served by additional public notice and comment. Consequently, additional public notice and comment are unnecessary.

The EPA also finds that there is good cause under APA section 553(d)(3) for these amendments to become effective on the date of publication of this action. Section 553(d)(3) of the APA allows an effective date of less than 30 days after publication “as otherwise provided by the agency for good cause found and published with the rule.” 5 U.S.C. 553(d)(3). The purpose of the 30-day waiting period prescribed in APA section 553(d)(3) is to give affected parties a reasonable time to adjust their behavior and prepare before the final rule takes effect. This rule does not create any new regulatory requirements such that affected parties would need time to prepare before the rule takes effect. This action merely makes administrative changes that align the structure and identification of tables in 40 CFR 52.222 to be consistent with current CFR guidelines. For these reasons, the EPA finds good cause under APA section 553(d)(3) for these changes to become effective on the date of publication of this action.

List of Subjects in 40 CFR Part 52

Environmental protection, Administrative practice and procedure, Air pollution control, Incorporation by reference, Intergovernmental relations, Nitrogen oxides, Ozone, Volatile organic compounds.

Dated: April 14, 2023.
Martha Guzman Aceves,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

§ 52.222 [Amended]

2. In § 52.222:

a. In the table immediately following paragraph (a)(1)(vii), designate the rows as paragraphs (a)(1)(vii)(A) through (S);

b. Revise paragraph (a)(2)(iv) introductory text;

c. In the table immediately following paragraph (a)(2)(iv),

i. Designate each entry in the first column as paragraphs (a)(2)(iv)(A) through (Q); and

ii. Designate the two cells in the second column of newly designated paragraph (a)(2)(iv)(L) as paragraphs (a)(2)(iv)(L)(1) and (2), respectively;

d. Add introductory text to paragraph (a)(4)(ii);

e. In the table immediately following paragraph (a)(4)(ii),

i. Designate each entry in the first column as paragraphs (a)(4)(ii)(A) through (P);

ii. Designate the two cells in the second column of newly designated paragraph (a)(4)(ii)(B) as paragraphs (a)(4)(ii)(B)(1) and (2), respectively;

iii. Designate the two cells in the second column of newly designated paragraph (a)(4)(ii)(F) as paragraphs (a)(4)(ii)(F)(1) and (2), respectively;

iv. Designate the two cells in the second column of newly designated paragraph (a)(4)(ii)(H) as paragraphs (a)(4)(ii)(H)(1) and (2), respectively;

v. Designate the two cells in the second column of newly designated paragraph (a)(4)(ii)(M) as paragraphs (a)(4)(ii)(M)(1) and (2), respectively; and

vi. Designate the two cells in the second column of newly designated paragraph (a)(4)(ii)(P) as paragraphs (a)(4)(ii)(P)(1) and (2), respectively;

f. Remove and reserve paragraph (a)(4)(iii);

g. In the table immediately following paragraph (a)(5)(ii),

i. Remove the table designation and heading; and

ii. Designate the rows as paragraphs (a)(5)(ii)(A) through (W);

h. In the table immediately following paragraph (a)(5)(iii),

i. Remove the table designation and heading; and

ii. Designate the rows as paragraphs (a)(5)(iii)(A) through (C);

i. In the table immediately following paragraph (a)(6)(x), designate the rows as paragraphs (a)(6)(x)(A) through (T);

j. Revise paragraph (a)(6)(xi) introductory text;

k. Immediately following paragraph (a)(6)(xi) introductory text,

i. Remove the table heading of the first undesignated table;

ii. In the first table, designate the rows as paragraphs (a)(6)(xi)(A) through (C); and

iii. Remove the second table;

l. Add paragraph (a)(6)(xiii);

m. In the table immediately following paragraph (a)(7)(iv),

i. Remove the table heading; and

ii. Designate the rows as paragraphs (a)(7)(iv)(A) through (LL);

n. In the table immediately following paragraph (a)(8)(iii),

i. Remove the table heading; and

ii. Designate the rows as paragraphs (a)(8)(iii)(A) through (I);

o. In the table immediately following paragraph (a)(9)(i),

i. Remove the table designation and heading; and

ii. Designate the rows as paragraphs (a)(9)(i)(A) through (LL);

p. In the table immediately following paragraph (a)(9)(iv),

i. Remove the table designation and heading; and

ii. Designate the rows as paragraphs (a)(9)(iv)(A) through (PP);

q. In the table immediately following paragraph (a)(9)(v),

i. Remove the table designation and heading; and

ii. Designate the rows as paragraphs (a)(9)(v)(A) through (UU);

r. Revise paragraph (a)(11)(i) introductory text;

s. In the table immediately following paragraph (a)(11)(i), designate the rows as paragraphs (a)(11)(i)(A) through (OO);

t. Revise paragraph (a)(12)(i) introductory text;

u. In the table immediately following paragraph (a)(12)(i),

i. Designate each entry in the first column as paragraphs (a)(12)(i)(A) through (X);

ii. Designate the two cells in the second column of newly designated paragraph (a)(12)(i)(B) as paragraphs (a)(12)(i)(B)(1) and (2), respectively;

iii. Designate the two cells in the second column of newly designated paragraph (a)(12)(i)(E) as paragraphs (a)(12)(i)(E)(1) and (2), respectively;

iv. Designate the two cells in the second column of newly designated paragraph (a)(12)(i)(H) as paragraphs (a)(12)(i)(H)(1) and (2), respectively;

v. Designate the two cells in the second column of newly designated paragraph (a)(12)(i)(L) as paragraphs (a)(12)(i)(L)(1) and (2), respectively;

vi. Designate the two cells in the second column of newly designated paragraph (a)(12)(i)(R) as paragraphs (a)(12)(i)(R)(1) and (2), respectively;

vii. Designate the two cells in the second column of newly designated paragraph (a)(12)(i)(U) as paragraphs (a)(12)(i)(U)(1) and (2), respectively; and

viii. Designate the two cells in the second column of newly designated paragraph (a)(12)(i)(W) as paragraphs (a)(12)(i)(W)(1) and (2), respectively;

v. In the table immediately following paragraph (a)(12)(ii), designate the rows as paragraphs (a)(12)(ii)(A) through (KK);

w. In the table immediately following paragraph (a)(14)(i),

i. Designate each entry in the first column as paragraphs (a)(14)(i)(A) through (O);

ii. Designate the two cells in the second column of newly designated paragraph (a)(14)(i)(F) as paragraphs (a)(14)(i)(F)(1) and (2), respectively;

iii. Designate the two cells in the second column of newly designated paragraph (a)(14)(i)(L) as paragraphs (a)(14)(i)(L)(1) and (2), respectively; and

iv. Designate the two cells in the second column of newly designated paragraph (a)(14)(i)(O) as paragraphs (a)(14)(i)(O)(1) and (2), respectively;

x. In the table immediately following paragraph (a)(14)(ii), designate the rows as paragraphs (a)(14)(ii)(A) through (EE);

y. In the table immediately following paragraph (a)(16)(i),

i. Remove the table designation; and

ii. Designate the rows as paragraphs (a)(16)(i)(A) through (MM).

The revisions and additions read as follows:

§ 52.222 Negative declarations.

(a) * * *

(2) * * *

(iv) The following negative declarations for the 1997 ozone NAAQS were adopted by the Sacramento Metropolitan Air Quality Management District.

* * * * *

(4) * * *

(ii) The following negative declarations for the 2008 ozone NAAQS were adopted by the Placer County Air Pollution Control District on February 13, 2014, and submitted to the EPA on April 14, 2014.

* * * * *

(6) * * *

(xi) The following negative declarations for the 1997 ozone NAAQS were adopted by the Antelope Valley Air Quality Management District on December 20, 2016, and submitted to the EPA on June 7, 2017.

* * * * *

(xiii) The following negative declarations for the 2008 ozone NAAQS were adopted by the Antelope Valley Air Quality Management District on December 20, 2016, and submitted to the EPA on June 7, 2017.

CTG source category | CTG reference document
(A) Can Coating | Control of Volatile Organic Emissions from Existing Stationary Sources—Volume II: Surface Coating of Cans, Coils, Paper, Fabrics, Automobiles, and Light-Duty Trucks (EPA-450/2-77-008, 05/1977).
(B) Drum Coating | Control Techniques Guidelines for Miscellaneous Metal and Plastic Parts Coatings (EPA-453/R-08-003, 09/2008).
(C) Flat Wood Paneling Coating | Control of Volatile Organic Emissions from Existing Stationary Sources—Volume VII: Factory Surface Coating of Flat Wood Paneling (EPA-450/2-78-032, 06/1978).
(D) Metal Furniture Coating | Control of Volatile Organic Emissions from Existing Stationary Sources—Volume III: Surface Coating of Metal Furniture (EPA-450/2-77-032, 12/1977).
(E) Pleasure Craft Coating | Control Techniques Guidelines for Miscellaneous Metal and Plastic Parts Coatings (EPA-453/R-08-003, 09/2008).
(F) Tank Truck Gasoline Loading Terminals | Control of Hydrocarbons from Tank Truck Gasoline Loading Terminals (EPA-450/2-77-026, 10/1977).

* * * * *

(11) * * *

(i) The following negative declarations for the 1997 and 2008 ozone NAAQS were adopted by the Feather River Air Quality Management District.

* * * * *

(12) * * *

(i) The following negative declarations for the 1997 ozone NAAQS were adopted by the Imperial County Air Pollution Control District on July 13, 2010, and submitted to the EPA on December 21, 2010.

* * * * *

[FR Doc. 2023-08439 Filed 4-20-23; 8:45 am]

BILLING CODE 6560-50-P